DEPARTMENT OF THE INTERIOR

Bureau of Land Management

[NV-057-1630-NU]

Notice of 30-Day Extension of the Public Comment Period for a Proposed Shooting Closure on Selected Public Lands Managed by the Bureau of Land Management in Nye County, NV

AGENCY: Bureau of Land Management, Interior.

ACTION: Notice of extension.

SUMMARY: On Friday, March 2, 2007, the Bureau of Land Management's Las Vegas Field Office published a Federal Register Notice (72FR9583) soliciting public comments through April 2, 2007, regarding a proposed shooting closure on approximately 11,000 acres of selected BLM-managed public lands in Nye County, Nevada. This Notice hereby extends that public comment period 30 days.

Date and Time: Written public comments may be mailed or hand delivered to the Bureau of Land Management, Las Vegas Field Office, 4701 North Torrey Pines Drive, Las Vegas, Nevada 89130. Comments also may be submitted electronically at the Federal eRulemaking Portal: http://www.regulations.gov. All comments must be received by Wednesday, May 2, 2007.

FOR FURTHER INFORMATION CONTACT: The Office of the Chief Ranger of Law Enforcement, Bureau of Land Management, Las Vegas Field Office, 4701 North Torrey Pines Drive, Las Vegas, Nevada 89130, telephone number (702) 515-5000.

SUPPLEMENTARY INFORMATION: The BLM plans to establish a shooting closure under the authority of 43 CFR 8364.1, which allows BLM Field Managers to establish closures for the protection of persons, property, and public lands and resources. This provision allows the BLM to issue closures of less than national effect without codifying the rules in the Code of Federal Regulations.

The closure is intended to ensure the safety of people and property adjacent to selected public lands and to prevent environmental degradation. The closure is the result of a cooperative effort to assure public safety by the Nye County Sheriff's office, the Nye County Commissioners and the BLM in response to concerns by local residents. This closure does not apply to hunting under the laws and regulations of the State of Nevada.

Public lands affected are within the following described area: Township 21 Range 53 Sections 14, 15, 22, 23, 24, 25, 26, 27, 34, 35, 36; Township 21 Range 54 Sections 21, 22, 27, 28, 29, 30 and 31, 32, 33, 34, Township 22 Range 53 Sections 1, 2 and 12; Township 22 Range 54 Sections 5, 6 and 7, Mount Diablo Meridian, Nevada. Maps Depicting the area affected by this closure order are available for public inspection at the BLM Las Vegas Field Office.

Maps of the closure are attached and will be posted at http://www.nv.blm.gov/vegas. Maps will also be available in the Town of Pahrump at the Nye County Sheriff's Office, the Nye County Commission office and the library. Maps are available to the public by contacting the BLM Las Vegas Field Office at 4701 N. Torrey Pines Drive, Las Vegas, NV 89130-2301.

Dated: March 22, 2007.
Juan Palma,
Manager, BLM Las Vegas Field Office.

[FR Doc. E7-7023 Filed 4-12-07; 8:45 am]

BILLING CODE 4310-HC-P